DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Sea Grant Program Application Requirements for Grants, for Sea Grant Fellowships, and for Designation as a Sea Grant College or Sea Grant Institute.

OMB Control Number: 0648-0362.

Form Number(s): NOAA 90-1, NOAA 90-2, NOAA 90-4.

Type of Request: Regular submission (extension of a current information collection).

Number of Respondents: 162.

Average Hours per Response: 30 minutes for a Sea Grant Control form; 20 minutes for a Project Record Form; 15 minutes for a Sea Grant Budget form; and 20 hours for an application for designation as a Sea Grant college or Sea Grant institute.

Burden Hours: 857.

Needs and Uses: This request is for extension of a current information collection.

The objectives of the National Sea Grant College Program, as stated in the Sea Grant legislation (33 U.S.C. 1121-1131) are to increase the understanding, assessments, development, utilization, and conservation of the Nation's ocean, coastal, and Great Lakes resources. It accomplishes these objectives by conducting research, education, and outreach programs.

Grant monies are available for funding activities that help obtain the objectives of the Sea Grant Program. Both single and multi-project grants are awarded, with the latter representing about 80 percent of the total grant program. In addition to other standard grant application requirements, three forms are required with the grants. These are the Sea Grant Control Form 90-2, used to identify the organizations and personnel who would be involved in the grant; the Project Record Form 90-1, which collects summary data on projects; and the Sea Grant Budget Form 90-4, which provides information similar to, but more detailed than on, forms SF-424A or SF-424C.

The National Sea Grant College Program Act (33 U.S.C. 1126) provides for the designation of a public or private institution of higher education, institute, laboratory, or State or local agency as a Sea Grant college or Sea Grant institute. Applications are required for designation of Sea Grant Colleges and Sea Grant Institutes.

Affected Public: Not for profit institutions; business or other for-profit, individuals or households; state, local or tribal government.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: July 18, 2011.
Gwellnar Banks,
Management Analyst, Office of the Chief Information Officer.

[FR Doc. 2011-18389 Filed 7-20-11; 8:45 am]

BILLING CODE 3510-KA-P